DEPARTMENT OF TRANSPORTATION

Pipeline and Hazardous Materials Safety Administration

[Docket: PHMSA-98-4957]

Request for Public Comments and Office of Management and Budget (OMB) Approval of an Existing Information Collection (2137-0614)

AGENCY: Pipeline and Hazardous Materials Safety Administration (PHMSA), DOT.

ACTION: Notice and request for comments.

SUMMARY: This notice requests public participation in the OMB approval process regarding the renewal of an existing PHMSA information collection. This renewal of information complies with the hazardous liquid and carbon dioxide pipeline operator's annual report requirement. PHMSA is requesting OMB approval for renewal of this information collection under the Paperwork Reduction Act of 1995. With this notice, PHMSA invites the public to submit comments over the next 60 days on ways to minimize the burden associated with the collection of information related to the hazardous liquid and carbon dioxide pipelines operator's annual report.

DATES: Comments must be submitted on or before April 13, 2007.

ADDRESSES: Comments should reference Docket No. PHMSA-98-4957 and may be submitted in the following ways:

• DOT Web Site: http://dms.dot.gov. To submit comments on the DOT electronic docket site, click “Comment/Submissions,” click “Continue,” fill in the requested information, click “Continue,” enter your comment, then click “Submit.”

• Fax: 1-202-493-2251.

• Mail: Docket Management System: U.S. Department of Transportation, 400 Seventh Street, SW., Nassif Building, Room PL-401, Washington, DC 20590-0001.

• Hand Delivery: DOT Docket Management System; Room PL-401 on the plaza level of the Nassif Building, 400 Seventh Street, SW., Washington, DC between 9 a.m. and 5 p.m., Monday through Friday, except Federal holidays.

• E-Gov Web Site: http://www.Regulations.gov. This site allows the public to enter comments on any Federal Register notice issued by any agency.

Instructions: You should identify the docket number, PHMSA-98-4957, at the beginning of your comments. If you mail your comments, you should send two copies. If you wish to receive confirmation that PHMSA received your comments, you should include a self-addressed stamped postcard. Internet users may submit comments at http://www.regulations.gov, and may access all comments received by DOT at http://dms.dot.gov by performing a simple search for the docket number.

Note: All comments will be posted without changes or edits to http://dms.dot.gov, including any personal information provided.

Privacy Act Statement: Anyone may search the electronic form of all comments received for any of our dockets. You may review DOT's complete Privacy Act Statement in the Federal Register published on April 11, 2000 (65 FR 19477) or you may visit http://dms.dot.gov.

FOR FURTHER INFORMATION CONTACT: L.E. Herrick at (202) 366-5523, or by e-mail at le.herrick@dot.gov.

SUPPLEMENTARY INFORMATION: Comments are invited on whether the proposed information collection is necessary for the proper performance of the functions of the Department. These include (1) Whether the information will have practical utility; (2) the accuracy of the Department's estimate of the burden of the information collections; (3) ways to enhance the quality, utility, and clarity of the information to be collected; and (4) ways to minimize the burden of the collection of information on respondents, including the use of automated collection techniques or other forms of information technology.

PHMSA requires operators to complete and submit an annual report (49 CFR 195.49). The operator provides details about the crude oil, highly volatile liquid (including anhydrous ammonia), petroleum products, or carbon dioxide pipeline systems operated at the end of the previous year. These reports enable PHMSA to identify and evaluate existing and potential pipeline safety problems and to develop statistical and data/safety reports. A copy of this report (Form PHMSA F7000.1.1) is available in the docket for this information collection renewal.

As used in this notice, the term “information collection” includes all work related to preparing and disseminating information related to this recordkeeping requirement including completing paperwork, gathering information, and conducting telephone calls.

Type of Information Collection Request: Renewal of existing collection.

Title of Information Collection: Hazardous Liquid Pipeline Operator Annual Reports.

Respondents: 298 hazardous liquid pipeline operators completing 447 annual reports.

Estimated Total Annual Burden on Respondents: 5,364 hours.

Issued in Washington, DC, on February 6, 2007.
Florence L. Hamn,
Director of Regulations, Office of Pipeline Safety.

[FR Doc. E7-2223 Filed 2-9-07; 8:45 am]

BILLING CODE 4910-60-P